UNITED STATES SENTENCING COMMISSION

Requests for Nominations; Victims Advisory Group

AGENCY: United States Sentencing Commission.

ACTION: Notice.

SUMMARY: In view of existing vacancies in the membership of the Victims Advisory Group, the United States Sentencing Commission hereby invites any individual who has knowledge, expertise, and/or experience in the area of federal crime victimization to apply to be appointed to the membership of the advisory group. Applications should be received by the Commission not later than July 2, 2014. Applications may be sent to the Commission as indicated in the addresses section below.

DATES: Applications for membership of the Victims Advisory Group should be received not later than July 2, 2014.

ADDRESSES: Applications for membership of the Victims Advisory Group should include a letter of interest and resume, and be sent to the Commission by electronic mail or regular mail. The email address is pubaffairs@ussc.gov. The regular mail address is United States Sentencing Commission, One Columbus Circle NE., Suite 2-500, South Lobby, Washington, DC 20002-8002, Attention: Public Affairs.

FOR FURTHER INFORMATION CONTACT: Jeanne Doherty, Public Affairs Officer, 202-502-4502, jdoherty@ussc.gov. More information about the Victims Advisory Group is available on the Commission's Web site at www.ussc.gov/advisory-groups.

SUPPLEMENTARY INFORMATION: The Victims Advisory Group of the United States Sentencing Commission is a standing advisory group of the United States Sentencing Commission pursuant to 28 U.S.C. § 995 and Rule 5.4 of the Commission's Rules of Practice and Procedure. Under the charter for the advisory group, the purpose of the advisory group is (1) to assist the Commission in carrying out its statutory responsibilities under 28 U.S.C. § 994(o); (2) to provide to the Commission its views on the Commission's activities and work, including proposed priorities and amendments, as they relate to victims of crime; (3) to disseminate information regarding sentencing issues to organizations represented by the Victims Advisory Group and to other victims of crime and victims advocacy groups, as appropriate; and (4) to perform any other functions related to victims of crime as the Commission requests. Under the charter, the advisory group consists of not more than nine members, each of whom may serve not more than two consecutive three-year terms. Each member is appointed by the Commission.

The Commission invites any individual who has knowledge, expertise, and/or experience in the area of federal crime victimization to apply to be appointed to the membership of the Victims Advisory Group by sending a letter of interest and a resume to the Commission as indicated in the ADDRESSES section above.

Authority: 28 U.S.C. § 994(a), (o), (p), § 995; USSC Rules of Practice and Procedure 5.2, 5.4.

Patti B. Saris,
Chair.

[FR Doc. 2014-12617 Filed 5-30-14; 8:45 am]

BILLING CODE 2210-40-P